DEPARTMENT OF TRANSPORTATION

Surface Transportation Board

[STB Finance Docket No. 34812 (Sub-No. 1)]

BNSF Railway Company—Temporary Trackage Rights Exemption—Union Pacific Railroad Company

Union Pacific Railroad Company (UP), pursuant to a written trackage rights agreement entered into between UP and BNSF Railway Company (BNSF), has agreed to grant BNSF temporary overhead trackage rights, to expire on April 30, 2006, over UP's Chester Subdivision between milepost 131.3, Rockview Junction, MO, and milepost 0.0, Valley Junction, IL, a distance of approximately 132 miles. The original grant of temporary overhead trackage rights exempted in BNSF Railway Company—Temporary Trackage Rights Exemption—Union Pacific Railroad Company, STB Finance Docket No. 34812 (STB served Jan. 6, 2006), covered the same line, but expired on March 21, 2006. The purpose of this transaction is to modify the temporary overhead trackage rights exempted in STB Finance Docket No. 34812 to extend the expiration date from March 21, 2006, to April 30, 2006.

The transaction was scheduled to be consummated on April 5, 2006, the effective date of this notice. The temporary overhead trackage rights will allow BNSF to continue to bridge its train service over UP's Chester Subdivision while BNSF's main lines are out of service due to certain programmed track, roadbed and structural maintenance.

As a condition to this exemption, any employee affected by the acquisition of the temporary trackage rights will be protected by the conditions imposed in Norfolk and Western Ry. Co.—Trackage Rights—BN, 354 I.C.C. 605 (1978), as modified in Mendocino Coast Ry., Inc.—Lease and Operate, 360 I.C.C. 653 (1980), and any employee affected by the discontinuance of those trackage rights will be protected by the conditions set out in Oregon Short Line R. Co.—Abandonment—Goshen, 360 I.C.C. 91 (1979).

This notice is filed under 49 CFR 1180.2(d)(8). If it contains false or misleading information, the exemption is void ab initio. Petitions to revoke the exemption under 49 U.S.C. 10502(d) may be filed at any time. The filing of a petition to revoke will not automatically stay the transaction.

An original and 10 copies of all pleadings, referring to STB Finance Docket No. 34812 (Sub-No. 1), must be filed with the Surface Transportation Board, 1925 K Street, NW., Washington, DC 20423-0001. In addition, a copy of each pleading must be served on Sidney L. Strickland Jr., Sidney Strickland and Associates, PLLC, 3050 K Street, NW., Suite 101, Washington, DC 20007.

Board decisions and notices are available on our website at http://www.stb.dot.gov.

Decided: April 11, 2006.
By the Board, David M. Konschnik, Director, Office of Proceedings.
Vernon A. Williams,
Secretary.

[FR Doc. E6-5737 Filed 4-17-06; 8:45 am]

BILLING CODE 4915-01-P